DEPARTMENT OF AGRICULTURE

Rural Business-Cooperative Service

[DOCKET #: RBS-X24BUSINESS-0016]

Notice of Funding Opportunity for the Rural Business Development Grant Program To Provide Technical Assistance for Rural Transportation Systems for Fiscal Year 2025

AGENCY: Rural Business-Cooperative Service, USDA.

ACTION: Notice.

SUMMARY: The Rural Business-Cooperative Service (RBCS or Agency), a Rural Development (RD) agency of the United States Department of Agriculture (USDA), is issuing this notice to invite applications for grants to provide technical assistance for passenger Rural Transportation (RT) systems under the Rural Business Development Grant (RBDG) program and the terms for such funding. Grant funds will provide technical assistance for RT systems including designated funds to provide technical assistance to RT systems operating within Tribal lands of Federally Recognized Native American Tribes (FRNAT) (collectively “Programs”). This notice is being issued in order to allow applicants sufficient time to leverage financing, prepare and submit their applications, and give the Agency time to process applications within fiscal year (FY) 2025. Based on FY 2024 appropriated funding, the Agency estimates that approximately $750,000 will be made available for FY 2025. Successful applications will be selected by the Agency for funding and subsequently awarded to the extent that funding may ultimately be made available through appropriations. All applicants are responsible for any expenses incurred in developing their applications.

DATES: Completed applications may be submitted in paper or electronic format and must be received in the USDA RD State Office no later than 4:30 p.m. (local time) on April 7, 2025, to be eligible for FY 2025 grant funding. Applications received after the deadline will be ineligible for funding.

ADDRESSES: This funding announcement will also be announced on Grants.gov. Applications must be submitted to the USDA RD State Office where the Project is located. A list of the USDA RD State Office contacts can be found at: rd.usda.gov/contact-us/state-offices.

FOR FURTHER INFORMATION CONTACT: Cindy Mason at cindy.mason@usda.gov, Business Loan and Grant Analyst, Program Management Division, RBCS, USDA, 1400 Independence Avenue SW, Mail Stop 3226, Room 5160-South, Washington, DC 20250-3226, or call 202-720-1400.

For further information on submitting program applications under this notice, please contact the USDA RD office for the State in which the applicant is located. A list of USDA RD Office contacts is provided at the following link: rd.usda.gov/contact-us/state-offices.

SUPPLEMENTARY INFORMATION:

Overview

Federal Awarding Agency Name: Rural Business-Cooperative Service.

Funding Opportunity Title: Rural Business Development Grants—Technical Assistance for Rural Transportation Systems.

Announcement Type: Notice of Funding Opportunity.

Funding Opportunity Number: RDBCP-RBDG-2025.

Assistance Listing: 10.351.

Dates: The deadline for completed applications to be received in the USDA RD State Office is no later than 4:30 p.m. (local time) on April 7, 2025, to be eligible for FY 2025 grant funding. Applications received after the deadline will be ineligible for funding.

Rural Development Key Priorities: The Agency encourages applicants to consider projects that will advance the following key priorities (more details available at rd.usda.gov/priority-points):

• Creating More and Better Markets: Assist rural communities to recover economically through more and better market opportunities and through improved infrastructure;

• Addressing Climate Change and Environmental Justice: Reduce climate pollution and increase resilience to the impacts of climate change through economic support for rural communities; and

• Advancing Racial Justice, Place-Based Equity, and Opportunity: Ensure all rural residents have equitable access to RD programs and benefits from RD funded projects.

A. Program Description

1. Purpose of the Program. The purpose of this program is to improve the economic conditions of rural areas by providing technical assistance that will enhance the operation of rural transportation systems.

2. Statutory Authority. This program is authorized under section 310B(c) of the Consolidated Farm and Rural Development Act (7 U.S.C. 1932(c)) and implemented by 7 CFR part 4280, subpart E. The program is administered on behalf of RBCS by the USDA RD State Offices. Assistance provided to rural areas under the program has historically included the provision of on-site technical assistance to Tribal, local and regional governments, public transit agencies, and related nonprofit and for-profit organizations in rural areas; the development of training materials; and the provision of necessary training assistance to local officials and agencies in rural areas.

Section 736 of title VII of division B of the Consolidated Appropriations Act, 2024, designated funding for projects in Persistent Poverty counties. Persistent Poverty counties is defined in section 736 as “any county that has had 20 percent or more of its population living in poverty over the past 30 years, as measured by the 1990 and 2000 decennial censuses, and 2007-2011 American Community Survey 5-year average, or any territory or possession of the United States”. Section 736 expanded the eligible population in Persistent Poverty counties to include any county seat of such a persistent poverty county that had a population that does not exceed the authorized population limit by more than 10 percent, expanding the current 50,000 population limit to 55,000 for only county seats located in Persistent Poverty counties. Therefore, beneficiaries of technical assistance services located in Persistent Poverty County seats with populations up to 55,000 are eligible. Therefore, assuming the Appropriations Act for 2025 has similar language, applicants and/or beneficiaries located in persistent poverty county seats with populations up to 55,000 (per the 2020 Census) are eligible.

3. Definitions. The definitions applicable to this notice are published at 7 CFR 4280.403.

4. Application of Awards. The Agency will review, evaluate, and score applications received in response to this notice based on the provisions in 7 CFR part 4280, subpart E, and as indicated in this notice. Awards under the RBDG Technical Assistance for RT Systems program will be made on a competitive basis using specific selection criteria contained in 7 CFR part 4280, subpart E, and in accordance with section 310B(c) of the Consolidated Farm and Rural Development Act (7 U.S.C. 1932(c)). The Agency advises all interested parties that the applicant bears the burden in preparing and submitting an application in response to this notice whether or not funding is appropriated for this program in FY 2025.

B. Federal Award Information

Type of Award: Grants.

Fiscal Year Funds: FY 2025.

Available Funds: $750,000. RBCS may at its discretion, increase the total level of funding available in this funding round, or in any category in this funding round, from any available source provided the awards meet the requirements of the statute which made the funding available to the Agency.

Award Amounts: The Agency will award a maximum of $500,000 for RT systems and $250,000 for FRNAT RT projects. The amounts are determined by the specific funding provided for the program in the FY 2025 Appropriations Act.

Anticipated Award Date: Prior to September 30, 2025.

Performance Period: October 1, 2025, through September 30, 2026.

Renewal or Supplemental Awards: None.

Type of Assistance Instrument: Financial Assistance Agreement.

C. Eligibility Information

1. Eligible Applicants. Eligible applicants must meet the eligibility requirements of 7 CFR 4280.416, Applicant Eligibility. The Agency requires the information provided in 7 CFR 4280.427 to make an eligibility determination that an applicant is a national organization.

For the funding for Technical Assistance for RT systems, applicants must be qualified national organizations with experience in providing technical assistance and training to rural communities nationwide for the purpose of improving passenger transportation services or facilities. To be considered “national,” RBCS requires a qualified organization to provide evidence that it can operate RT assistance programming nationwide. An entity can qualify if they can work in partnership with other entities to fulfill the national requirement as long as the applicant will have ultimate control of the grant administration. For the funding for RT systems to FRNATs, an entity can qualify if it can work in partnership with other entities to support all federally recognized Tribes, as long as the applicant will have ultimate control of the grant administration. There is not a requirement to use the grant funds in a multi-State area. Grants will be made to qualified national organizations for the provision of technical assistance and training to rural communities for the purpose of improving passenger transportation services or facilities.

For the FRNAT grant, which must benefit FRNATs, at least 75 percent of the benefits of the Project must be received by members of FRNATs.

2. Cost Sharing or Matching. There are no cost sharing or matching requirements associated with this grant.

3. Other. Applications will only be accepted from qualified national organizations to provide Technical Assistance for RT. Applicants proposing projects with Tribes must submit documentation in support of the application from the Tribes they propose to serve. This support is best documented through a resolution from the appropriate Tribal council/government. Alternative documentation of support may be considered on a case-by-case basis.

D. Application and Submission Information

1. Address to Request Application Package. Entities wishing to apply for assistance should contact the USDA RD State Office provided in the ADDRESSES section of this notice to obtain copies of the application package.

2. Content and Form of Application Submission. An application must contain all of the required elements listed in 7 CFR 4280.427 and the following:

(a) Environmental documentation in accordance with 7 CFR part 1970, “Environmental Policies and Procedures;”

(b) SF LLL, “Disclosure of Lobbying Activities;”

(c) RD 400-1, “Equal Opportunity Agreement;”

(d) RD 400-4, “Assurance Agreement;” and

(e) Letter providing Board authorization to obtain assistance.

Each application received in a USDA RD State Office will be reviewed to determine if it is consistent with the eligible purposes contained in section 310B(c) of the Consolidated Farm and Rural Development Act (7 U.S.C. 1932(c)). Each selection scoring criterion outlined in 7 CFR 4280.435 must be addressed in the application. Failure to address any of the criteria will result in a zero-point score for that criterion and will impact the overall evaluation of the application. The regulation governing this program, 7 CFR part 4280, subpart E, is available at ecfr.gov/current/title-7/subtitle-B/chapter-XLII/part-4280/subpart-E, or will be provided to any interested applicant making a request to a USDA RD State Office.

All projects to receive technical assistance through these passenger transportation grant funds are to be identified when the applications are submitted to the USDA RD State Office. Multiple project applications must identify each individual project, indicate the amount of funding requested for each individual project, and address the criteria as stated above for each individual project.

3. System for Award Management and Unique Entity Identifier.

(a) At the time of application, each applicant must have an active registration in the System for Award Management (SAM) before submitting its application in accordance with 2 CFR part 25 (ecfr.gov/current/title-2/subtitle-A/chapter-I/part-25). To register in SAM, entities will be required to obtain a Unique Entity Identifier (UEI). Instructions for obtaining the UEI are available at https://sam.gov/content/entity-registration.

(b) Applicant must maintain an active SAM registration, with current, accurate, and complete information, while it has an active Federal award or an application under consideration by a Federal awarding agency.

(c) Applicants must ensure they complete the Financial Assistance General Certifications and Representations in SAM.

(d) Applicants must provide a valid UEI in its application, unless determined exempt under 2 CFR 25.110 (ecfr.gov/current/title-2/subtitle-A/chapter-I/part-25/subpart-A/section-25.110).

(e) The Agency will not make an award until the applicant has complied with all SAM requirements including providing the UEI. If an applicant has not fully complied with the requirements by the time the Agency is ready to make an award, the Agency may determine that the applicant is not qualified to receive a Federal award and use that determination as a basis for making a Federal award to another applicant.

4. Submission Dates and Times.

(a) Application Technical Assistance Deadline Date. Prior to official submission of grant applications, applicants may request technical assistance or other application guidance from the Agency. All requests for technical assistance or application guidance must be made prior to February 5, 2025. Technical assistance is not meant to be an analysis or assessment of the quality of the materials submitted, a substitute for Agency review of completed applications, or a determination of eligibility, if such determination requires in-depth analysis.

(b) Application Deadline Date. Applications (paper or electronic format) must be submitted to the appropriate RD State Office no later than 4:30 p.m. (local time) on April 7, 2025. If completed applications are not received by the deadline date, the application will neither be reviewed nor considered for funding under any circumstances.

The Agency will not solicit or consider scoring or eligibility information that is submitted after the application deadline. The Agency reserves the right to contact applicants to seek clarification information on materials contained in the submitted application.

The deadline date means that the completed application package must be received in the USDA RD State Office by the deadline date established above. If the due date falls on a Saturday, Sunday, or Federal holiday, the application is due the next business day. All application documents identified in this notice and in 7 CFR part 4280, subpart E, are required to be considered a complete application.

(c) Applications Received After Deadline Date. If a complete application is not received by the deadline established above, the application will neither be reviewed nor considered under any circumstances. The Agency will not solicit or consider scoring or eligibility information that is submitted after the application deadline. The Agency reserves the right to contact applicants to seek clarification information on materials contained in the submitted application.

5. Intergovernmental Review. Executive Order (E.O.) 12372, “Intergovernmental Review of Federal Programs,” applies to this program. This E.O. requires that Federal agencies provide opportunities for consultation on proposed assistance with State and local governments. Many States have established a Single Point of Contact (SPOC) to facilitate this consultation. For a list of States that maintain a SPOC, please see the White House website: whitehouse.gov/omb/management/office-federal-financial-management/. If your State has a SPOC, you may submit a copy of the application directly for review. Any comments obtained through the SPOC must be provided to your State Office for consideration as part of your application. If your State has not established a SPOC, or if you do not want to submit a copy of the application, our State Offices will submit your application to the SPOC or other appropriate agency or agencies.

6. Funding Restrictions. These grants are for RT Technical Assistance grants only and no construction or equipment purchases are permitted. If the grantee has a previously approved indirect cost rate, it is permissible, otherwise, the applicant may elect to charge the 15 percent indirect cost permitted under 2 CFR 200.414(f) or request a determination of its Indirect Cost Rate. Due to the time required to evaluate Indirect Cost Rates, it is likely that all funds will be awarded by the time the Indirect Cost Rate is determined. No foreign travel is permitted. Pre-Federal award costs will only be permitted with prior written approval by the Agency.

None of the funds made available may be used to enter into a contract, memorandum of understanding, or cooperative agreement with, make a grant to, or provide a loan or loan guarantee to:

(a) Any corporation that has any unpaid Federal tax liability that has been assessed, for which all judicial and administrative remedies have been exhausted or have lapsed, and that is not being paid in a timely manner pursuant to an agreement with the authority responsible for collecting the tax liability.

(b) Any corporation that was convicted of a felony criminal violation under any Federal law within the preceding 24 months where the awarding agency is aware of the unpaid tax liability and/or conviction, unless a Federal agency has considered suspension or debarment of the corporation and has determined that further action is not necessary to protect the interests of the Government.

7. Other Submission Requirements.

General Submission Requirements. The organization submitting the application will be considered the lead entity. The program manager must be associated with the lead entity submitting the application. Applications will not be considered for funding if they do not provide sufficient information to determine eligibility or are missing required elements.

There is no limit on the number of applications an applicant may submit under this announcement. There are no specific formats, specific limitations on number of pages, font size and type face, margins, paper size, number of copies, sequence, or assembly requirements. The component pieces of this application should contain original signatures on the original application.

Electronic Submittals. Applicants submitting an electronic application, should contact the State Office serving the State where the Project will primarily take place. A list of State Offices may be found at rd.usda.gov/about-rd/state-offices.

Paper Submittals. Applicants submitting a paper application should send it to the USDA RD State Office located in the State where the Project will primarily take place. You can find State Office contact information at: rd.usda.gov/contact-us/state-offices.

All forms requiring signatures must include an original signature. If the applicant wishes to hand deliver its application, the addresses for these deliveries are in the ADDRESSES section of this notice.

E. Application Review Information

1. Criteria. All eligible and complete applications will be evaluated and scored based on the scoring criteria contained in 7 CFR 4280.435. The Agency will select grantees subject to the grantees' satisfactory submission of the items required by 7 CFR 4280.427, and the USDA RD Letter of Conditions. Failure to address any criteria in 7 CFR 4280.427 by the application deadline will result in the application being determined ineligible, and the application will not be considered for funding. The amount of an RT grant may be adjusted, at the Agency's discretion, to enable the Agency to award RT grants to the applications with the highest priority scores in each category.

2. Review and Selection Process. USDA RD State Offices will review applications to determine if they are eligible for assistance based on the application and project eligibility requirements contained in 7 CFR 4280.416 and 4280.417, respectively, and as stated in this notice. If determined eligible, the applicable State Office will submit your application to the National Office. Funding of the projects is subject to the applicant's satisfactory submission of the additional items required by subpart E and the USDA RD Letter of Conditions. The Agency reserves the right to offer the applicant a grant award in an amount less than the amount the applicant requested.

The Agency reserves the right to award additional discretionary points under 7 CFR 4280.435(k). Discretionary points may only be assigned to initial grants. Assignment of discretionary points must include a written justification. Permissible justifications include projects that meet special Secretary of Agriculture initiatives such as projects:

(a) Assisting rural communities recover economically through more and better market opportunities and through improved infrastructure. Applicants receive priority points if the project is located in or serving a rural community whose economic well-being ranks in the most distressed tier (distress score of 80 or higher) of the Distressed Communities Index using the Distressed Communities Look-Up Map available at rd.usda.gov/priority-points.

(b) Ensuring all rural residents have equitable access to RD programs and benefits from RD funded projects. Using the Social Vulnerability Index (SVI) Look-Up Map (available at rd.usda.gov/priority-points), an applicant would receive priority points if the:

• The Project is located in or serving a community with score 0.75 or above on the SVI;

• The applicant is a federally recognized Tribe, including Tribal instrumentalities and entities that are wholly owned by Tribes; or

• Is a project where at least 50 percent of the project beneficiaries are members of federally recognized Tribes and non-Tribal applicants include a Tribal Resolution of Consent from the Tribe or Tribes that the applicant is proposing to serve.

• The application is from or benefiting a Rural Partner's Network's (RPN) community network. Currently RPN Networks exist in Alaska, Arizona, Georgia, Kentucky, Mississippi, Nevada, New Mexico, North Carolina, Puerto Rico, West Virginia and Wisconsin. Use the Community Look-Up map (available at rd.usda.gov/priority-points) to determine if your project qualifies for priority points.

(c) Reducing climate pollution and increasing resilience to the impacts of climate change through economic support to rural communities. Using the Disadvantaged Community and Energy Community Look-up Map (available at rd.usda.gov/priority-points), applicants will receive priority points in three ways:

• If a project is located in or serves a Disadvantaged Community as defined by the Climate and Economic Justice Screening Tool (CEJST), from the White House Council on Environmental Quality (CEQ),

• If the project is located in or serves an Energy Community as defined by the Inflation Reduction Act of 2022 (Pub. L. 117-169, “IRA”), and

• If applicants can demonstrate through a written narrative how the proposed climate-impact projects will improve the livelihoods of community residents and meet pollution mitigation or clean energy goals.

F. Federal Award Administration Information

1. Federal Award Notices. Successful applicants will receive notification for funding from their USDA RD State Office. Applicants must comply with all applicable statutes and regulations before the grant award will be approved. Unsuccessful applications will receive notification by mail.

2. Administrative and National Policy Requirements.

(a) Additional Requirements.

(1) All successful applicants will be notified by letter, which will include a Letter of Conditions, and a Letter of Intent to Meet Conditions. This letter is not an authorization to begin performance. If the applicant wishes to consider beginning performance prior to the grant being officially closed, all pre-award costs must be approved in writing and in advance by the Agency. The grant will be considered officially awarded when all conditions in the Letter of Conditions have been met and the Agency obligates the funding for the Project.

(2) Additional requirements that apply to grantees selected for this program can be found in 7 CFR part 4280, subpart E; the Grants and Agreements regulations applicable to USDA in 2 CFR part 400, which incorporates the Office of Management and Budget (OMB) regulations at 2 CFR part 200, and successor regulations. In addition, all recipients of Federal financial assistance are required to report information about first tier subawards and executive compensation (see 2 CFR part 170). You will be required to have the necessary processes and systems in place to comply with the Federal Funding Accountability and Transparency Act of 2006 (Pub. L. 109-282) reporting requirements (see 2 CFR 170.200(b), unless you are exempt under 2 CFR 170.105).

(3) Program participants will be required to collect and maintain data provided by recipients on race, sex, and national origin and ensure recipients collect and maintain this data. Race and ethnicity data will be collected in accordance with OMB Federal Register notice, “Revisions to the Standards for the Classification of Federal Data on Race and Ethnicity,” (62 FR 58782), October 30, 1997. Data on recipients' sex will be collected in accordance with title IX of the Education Amendments Act of 1972. These items should not be submitted with the application but should be available upon request by the Agency.

(4) The following additional requirements apply to grantees selected for this program:

(i) Form RD 4280-2 “Rural Business-Cooperative Service Financial Assistance Agreement.”

(ii) Letter of Conditions.

(iii) Form RD 1940-1, “Request for Obligation of Funds.”

(iv) Form RD 1942-46, “Letter of Intent to Meet Conditions.”

(v) SF LLL, “Disclosure of Lobbying Activities,” if applicable.

(vi) Form SF 270, “Request for Advance or Reimbursement.”

(b) Geospatial Information. Awardee, and any and all contracts entered into by the Awardee with respect to the Award, shall ensure that geospatial data required to be collected and provided to the agency, conforms with the requirements of USDA Department Regulation DR-3465-001 and the Geospatial Metadata Standards set forth in DM 3465-001, which can be obtained online at www.usda.gov/directives/dr-3465-001 and www.usda.gov/directives/dm-3465-001.

3. Reporting. A Financial Status Report and a Project Performance Activity Report will be required of all grantees on a quarterly basis until initial funds are expended and yearly thereafter, if applicable, based on the Federal fiscal year. The grantee will complete the Project within the total time available to it in accordance with the Scope of Work and any necessary modifications thereof prepared by the grantee and approved by the Agency. A final Project Performance Report will be required with the final Financial Status Report. The final report may serve as the last quarterly report. The final report must provide complete information regarding the jobs created and supported as a result of the grant if applicable. Grantees must continuously monitor performance to ensure that time schedules are being met, projected work by time periods is being accomplished, and other performance objectives are being achieved. Grantees must submit an original of each report to the Agency no later than 30 days after the end of the quarter. The Project Performance Reports must include, but not be limited to, the following:

(a) A comparison of actual accomplishments to the objectives established for that period;

(b) Problems, delays, or adverse conditions, if any, which have affected or will affect attainment of overall Project objectives, prevent meeting time schedules or objectives, or preclude the attainment of Project work elements during established time periods. This disclosure shall be accompanied by a statement of the action taken or planned to resolve the situation;

(c) Objectives and timetable established for the next reporting period;

(d) Any special reporting requirements, such as jobs supported and created, businesses assisted, or Economic Development which results in improvements in median household incomes, and any other specific requirements, should be placed in the reporting section in the Letter of Conditions; and

(e) Within 120 days after the conclusion of the Project, the grantee will provide a final Project Evaluation Report. The last quarterly payment will be withheld until the final report is received and approved by the Agency. Even though the grantee may request reimbursement monthly, the last three months of reimbursements will be withheld until a final Project, Project Performance, and Financial Status Report are received and approved by the Agency.

G. Federal Awarding Agency Contact(s)

For general questions about this announcement, please contact your USDA RD State Office provided in the ADDRESSES section of this notice.

H. Other Information

1. Paperwork Reduction Act. In accordance with the Paperwork Reduction Act of 1995 (44 U.S.C. chapter 35), the information collection requirements associated with this program, as covered in this notice, have been approved by the Office of Management and Budget (OMB) under OMB Control Number 0570-0070.

2. National Environmental Policy Act. All recipients under this notice are subject to the requirements of 7 CFR part 1970. However, awards for technical assistance and training under this notice are classified as a Categorical Exclusion in accordance with 7 CFR 1970.53(b), and usually do not require any additional documentation. RBCS will review each grant application to determine its compliance with 7 CFR part 1970. The applicant may be asked to provide additional information or documentation to assist RBCS with this determination.

3. Federal Funding Accountability and Transparency Act. All applicants, in accordance with 2 CFR part 25, must be registered in SAM and have a UEI number as stated in section D.3 of this notice. All recipients of Federal financial assistance are required to report information about first tier subawards and executive total compensation in accordance with 2 CFR part 170.

4. Civil Rights Act. All grants made under this notice are subject to title VI of the Civil Rights Act of 1964 as required by the USDA (7 CFR part 15, subpart A—Nondiscrimination in Federally-Assisted Programs of the Department of Agriculture—Effectuation of Title VI of the Civil Rights Act of 1964), section 504 of the Rehabilitation Act of 1973, title VIII of the Civil Rights Act of 1968, title IX, Executive Order 13166 (Limited English Proficiency), Executive Order 11246, and the Equal Credit Opportunity Act of 1974.

5. Equal Opportunity for Religious Organizations.

(a) Faith-based organizations may apply for this award on the same basis as any other organization, as set forth at, and subject to the protections and requirements of, this part and any applicable constitutional and statutory requirements, including 42 U.S.C. 2000bb et seq. USDA will not, in the selection of recipients, discriminate for or against an organization on the basis of the organization's religious character, motives, or affiliation, or lack thereof, or on the basis of conduct that would not be considered grounds to favor or disfavor a similarly situated secular organization.

(b) A faith-based organization that participates in this program will retain its independence from the Government and may continue to carry out its mission consistent with religious freedom and conscience protections in Federal law. Religious accommodations may also be sought under many of these religious freedom and conscience protection laws.

(c) A faith-based organization may not use direct Federal financial assistance from USDA to support or engage in any explicitly religious activities except when consistent with the Establishment Clause of the First Amendment and any other applicable requirements. An organization receiving Federal financial assistance also may not, in providing services funded by USDA, or in their outreach activities related to such services, discriminate against a program beneficiary or prospective program beneficiary on the basis of religion, a religious belief, a refusal to hold a religious belief, or a refusal to attend or participate in a religious practice.

6. Nondiscrimination Statement. In accordance with Federal civil rights laws and USDA civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; or the 711 Relay Service.

To file a program discrimination complaint, a complainant should complete a Form AD-3027, USDA Program Discrimination Complaint Form, which can be obtained online at usda.gov/sites/default/files/documents/ad-3027.pdf, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Kathryn E. Dirksen Londrigan,
Administrator, Rural Business-Cooperative Service, USDA Rural Development.

[FR Doc. 2024-28767 Filed 1-3-25; 8:45 am]

BILLING CODE 3410-XY-P